DEPARTMENT OF LABOR

Employment and Training Administration

[TA-W-56,944]

Johnson Controls, Inc., Controls SP Division, Goshen, IN; Notice of Revised Determination of Alternative Trade Adjustment Assistance on Reconsideration

In a letter dated May 3, 2005, a company official requested administrative reconsideration regarding Alternative Trade Adjustment Assistance (ATAA) for workers of the subject firm. The certification for Trade Adjustment Assistance was signed on April 21, 2005. The Department's notice of determination will soon be published in the Federal Register.

The initial investigation determined that the subject worker group possesses skills that are easily transferable.

In the request for reconsideration, the company official stated that the ATAA question regarding transferable skills was misunderstood and provided new information regarding the skills possessed by members of the subject worker group.

During the reconsideration investigation, the Department sought additional information regarding the workers' skills from the subject company.

Based on the new information, the Department has determined that the workers possess skills which are not easily transferable to other positions in the local area.

The initial investigation revealed that at least five percent of the workforce at the subject firm is at least fifty years of age. Conditions within the controls industry are adverse.

Conclusion

After careful review of the additional facts obtained on reconsideration, I conclude that the requirements of Section 246 of the Trade Act of 1974, as amended, have been met for workers of the subject firm.

In accordance with the provisions of the Act, I make the following certification:

“All workers of Johnson Controls, Inc., Controls SP Division, Goshen, Indiana, who became totally or partially separated from employment on or after April 6, 2004 through April 21, 2007, are eligible to apply for adjustment assistance under Section 223 of the Trade Act of 1974, and are also eligible to apply for alternative trade adjustment assistance under Section 246 of the Trade Act of 1974.”

Signed in Washington, DC this 12th day of May 2005.
Linda G. Poole,
Certifying Officer, Division of Trade Adjustment Assistance.

[FR Doc. E5-2643 Filed 5-24-05; 8:45 am]

BILLING CODE 4510-30-P